DEPARTMENT OF THE INTERIOR

Bureau of Indian Affairs

Designation of Service Area for Confederated Tribes of the Warm Springs of Oregon

AGENCY: Bureau of Indian Affairs, Interior.

ACTION: Notice.

SUMMARY: This notice announces approval by the Bureau of Indian Affairs (BIA) of an expansion in service area for the Confederated Tribes of Warm Springs of Oregon, Warm Springs, Oregon (Warm Springs Tribe) for financial assistance and social service programs.

DATES: The BIA approval was effective on July 7, 2010.

FOR FURTHER INFORMATION CONTACT: Dr. Linda K. Ketcher, Supervisory Social Worker, at (202) 513-7610.

SUPPLEMENTARY INFORMATION: The Warm Springs Tribe submitted to BIA a request with supporting documentation to modify its service area under 25 CFR 20.201. The Assistant Secretary—Indian Affairs has approved the request based on an evaluation of the information provided. This modification will expand the service area for the Warm Springs Tribe to include Hood River County (Oregon). The Tribe will provide services for eligible Indian clients in the new service area by setting up bi-weekly office hours at Hood River County.

Dated: August 26, 2010.
Larry Echo Hawk,
Assistant Secretary—Indian Affairs.

[FR Doc. 2010-23873 Filed 9-22-10; 8:45 am]

BILLING CODE 4310-4J-P